DEPARTMENT OF COMMERCE

Bureau of Industry and Security

15 CFR Parts 742, 744, and 748

[Docket No. 260112-0028]

RIN 0694-AK43

Revision to License Review Policy for Advanced Computing Commodities

AGENCY: Bureau of Industry and Security, Department of Commerce.

ACTION: Final rule.

SUMMARY: The Bureau of Industry and Security (BIS) is revising its license review policy for exports of certain semiconductors to China and Macau—changing it from a presumption of denial to a case-by-case review. The semiconductors covered by this rule are the Nvidia H200 and its equivalents, as well as less advanced chips—provided that (1) the semiconductors are commercially available in the United States at the time of publication of this rule and (2) the exporter certifies that: there is sufficient supply of this product in the United States; production of this product for exports to China will not divert global foundry capacity for similar or more advanced products for end users in the United States; the recipient has demonstrated sufficient security procedures; and the item undergoes independent, third-party testing in the United States to verify its performance specifications.

DATES: Effective date: The effective date of this rule is January 15, 2026.

FOR FURTHER INFORMATION CONTACT:

• For general questions, contact Regulatory Policy Division, Office of Exporter Services, Bureau of Industry and Security, U.S. Department of Commerce at 202-482-2440 or by email: RPD2@bis.doc.gov.

• For Category 3 technical questions, contact Carlos Monroy at 202-482-3246 or by email: Carlos.Monroy@bis.doc.gov.

SUPPLEMENTARY INFORMATION:

I. Background

Consistent with U.S. national security and foreign policy objectives, which recognize the need to maintain the United States' technological superiority, BIS is adjusting the license review policy to case-by-case for exports of certain commercially available advanced computing commodities to end-users located in China and Macau. BIS finds this action necessary to ensure the national security benefits of U.S. leadership in artificial intelligence (AI).

Specifically, for advanced computing commodities with a TPP less than 21,000 (as defined in Technical Note 2 to 3A090.a and 3A090.b), and a `total DRAM bandwidth' less than 6,500 GB/s (as defined in the notes to paragraph (dd)(1) in supplement no. 2 to part 748), such as the NVIDIA H200 or AMD MI325X, this final rule specifies certain conditions that, if satisfied, allow for license applicants to move from a presumption of denial to a case-by-case license review policy for exports from the United States destined to China or Macau.

This rule maintains a presumption of denial licensing policy for exports to end-users located outside of Macau or destinations in Country Group D:5 to entities that are headquartered or have a parent company headquartered in Macau or a destination in Country Group D:5.

As part of the licensing process associated with the new case-by-case license review policy, the applicant must certify and provide necessary supporting data, that:

• the items operate below the performance criteria included in this final rule and specify how many units of the items have been shipped in the United States at the time of license application;

• there is sufficient supply of the product in the United States such that export of the product authorized by this license would not result in any delay in fulfilling any existing or new orders of any of its “advanced-node integrated circuits” from customers in the United States for end use in the United States (taking into account normal lead times); that global foundry capacity that would otherwise be used to produce similar node or more advanced integrated circuits for end users in the United States will not be diverted to produce the commodities authorized by this license for exports to China;

• the aggregate shipments of the product to China and Macau will be no more than 50% of the total product shipped to customers for end use in the United States of that product;

• the transaction is not prohibited by end user/use controls and controls for nonmilitary end uses/end-users;

• the ultimate consignee will employ rigorous Know Your Customer (KYC) procedures to screen and prevent unauthorized remote access to unauthorized parties (e.g., prohibited part 744 parties); and

• prior to export from the United States, every shipment of advance computing commodities will be reviewed by a qualified third-party testing lab to confirm the technical capabilities and functions of the AI commodities described in the exporter's license application.

The applicant must also provide a list of remote end users located in Belarus, China, Cuba, Iran, Macau, North Korea, Russia, and Venezuela, or whose ultimate parent company is headquartered in, Belarus, China, Cuba, Iran, Macau, North Korea, Russia, and Venezuela. Based on the records and information provided as part of the application process, BIS and reviewing agencies will determine, on a case-by-case basis, whether to approve or deny the license of these specific commodities.

II. Revisions to § 742.6 Regional Stability

Section 742.6 (Regional stability) is being amended to provide a case-by-case licensing policy for license applications for certain advanced computing commodities described in § 742.6(a)(6)(iii). BIS is revising paragraph (b)(10)(iii)(A)(1) to include a case-by-case license review policy for license applications to export from the United States commodities with a TPP less than 21,000, and a `total DRAM bandwidth' less than 6,500 GB/s (e.g., NVIDIA H200 or AMD MI325X), when destined to end-users located in either China or Macau, provided certain conditions are met. The additional conditions are set forth in supplement no. 2 to part 748 and described in section IV of this rule; they are intended to protect U.S. national security interests while allowing for a discretionary case-by-case licensing policy. These additional conditions will provide additional transparency on the commodities being exported and are intended to ensure that the advanced computing capabilities of the destination country do not exceed the capabilities or supply capacity of the United States, or negatively impact the global foundry capacity that would otherwise be used to produce similar node or more advanced integrated circuits, in a way that would be detrimental to U.S. national security interests. For reexports (including exports from abroad) and transfers (in-country) of AI commodities subject to the EAR with a TPP less than 21,000, and a `total DRAM bandwidth' less than 6,500 GB/s, when destined to either Macau or a destination specified in Country Group D:5, the licensing policy remains a presumption of denial. For exports to entities that are headquartered or have a parent company headquartered in Macau or a destination in Country Group D:5, including end-users located outside of destinations in Country Group D:5 or Macau, the licensing policy is a presumption of denial. If a license application meets the criteria of more than one licensing policy, then this licensing policy and its requirements will apply. This final rule also makes a conforming change for case-by-case review policy under § 744.23 with revised § 742.6(b)(10)(iii). See Section III for more details.

III. Revisions to § 744.23 “Supercomputer,” “Advanced-Node Integrated Circuits,” and Semiconductor Manufacturing Equipment End Use Controls

This final rule makes a change to add a case-by-case license review policy based on the case-by-case license review policy described in § 742.6(b)(10)(iii) of the EAR. This final rule makes this change in § 744.23(d) (License review standards) by redesignating paragraph (d)(3)(iii) as new paragraph (d)(3)(iv) and adding a new paragraph (d)(3)(iii) to specify that license applications for items specified in § 744.23(a)(3)(i)(A) that meet the criteria for case-by-case license review under § 742.6(b)(10)(iii), will also be reviewed on a case-by-case basis for purposes of § 744.23. This final rule also includes a change that removes “or” at the end of paragraph (d)(3)(ii) and revises newly redesignated paragraph (d)(3)(iv) to add a reference to paragraph (d)(3)(iii).

IV. Supplement No. 2 to Part 748—Unique Application and Submission Requirements

This final rule adds paragraph (dd) to supplement no. 2 to part 748 to set forth the conditions that enable moving from a license review policy of presumption of denial to one of case-by-case for exports of advanced-node ICs with a TPP less than 21,000, and a `total DRAM bandwidth' less than 6,500 GB/s, from the United States to end-users located in China or Macau.

BIS will require, prior to export from the United States, that an exporter confirm as part of the license application process that the AI commodities described in their license application will be reviewed by a qualified third-party testing lab to confirm the technical capabilities and functions of the AI commodities described in the exporter's license application. Such a review can be performed by a representative sampling of a batch of semiconductors chosen by the lab, rather than the lab reviewing every individual semiconductor that the exporter intends to export. Third-party testing labs are independent organizations that evaluate products to ensure they meet quality, safety, and regulatory standards, and their impartiality sets them apart from in-house testing facilities. Because third-party testing labs must be free from any ties to manufacturers or suppliers, these labs provide unbiased assessments to produce test results that are credible and reliable.

Among the qualifications for a third-party testing lab, it must be headquartered in the United States, not otherwise under the control of a company or other entity headquartered in or whose ultimate parent company or other entity is headquartered in Country Group D:5 or Macau, and the testing must take place in the United States. Further, the lab must not have any financial interest or ownership in any party to the transaction, and it must have the expertise to confirm that representations made on the technical capabilities and functions of the AI commodities described in the exporter's license application—including but not limited to the `total processing performance,' `total DRAM bandwidth,' `interconnect bandwidth,' and `copackaged DRAM capacity'—are accurate. Paragraph (dd)(3) of supplement no. 2 to part 748 describes the requirements and responsibilities of a third-party testing lab for an exporter to obtain the case-by-case licensing policy review described in § 742.6(b)(10)(iii)(A)(1).

The export application must clearly enumerate KYC and physical security measures adopted by the ultimate consignee/customer and stipulate that the receiving facility will also manage and limit Infrastructure as a Service (including AI model training and inference) for its customers to prevent unauthorized access to these advanced computing commodities.

In § 748.8 “Unique application and submission requirements,” this final rule adds a conforming change for the addition of new paragraph (dd) in supplement no. 2 to part 748, by adding a new paragraph (bb) (Export license application for advanced computing commodities) to make export license applicants aware of this new application requirement.

Export Control Reform Act of 2018 (ECRA)

On August 13, 2018, the President signed into law the John S. McCain National Defense Authorization Act for Fiscal Year 2019, which included the Export Control Reform Act (ECRA) (codified, as amended, at 50 U.S.C. 4801-4852). ECRA provides the legal basis for BIS's principal authorities and serves as the authority under which BIS issues this rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be significant pursuant to section 3(f) of E.O. 12866. Although it is a “significant regulatory action” for purposes of E.O. 12866, this rule is exempt from the requirements of E.O. 14192, because its primary direct benefit is to improve national security, per section 5(a) of E.O. 14192.

2. Notwithstanding any other provision of law, no person is required to respond to, nor shall any person be subject to a penalty for failure to comply with, a collection of information subject to the requirements of the Paperwork Reduction Act of 1995 (PRA) (44 U.S.C. 3501 et seq.), unless that collection of information displays a currently valid Office of Management and Budget (OMB) Control Number.

This rule involves the following OMB-approved collections of information subject to the PRA:

• 0694-0088, “Multi-Purpose Application,” which carries a burden hour estimate of 29.7 minutes for a manual or electronic submission;

• 0694-0096 “Five Year Records Retention Period,” which carries a burden hour estimate of less than 1 minute;

• 0694-0122, “Licensing Responsibilities and Enforcement;” which carries a burden hour estimate of 10 minutes per electronic submission;

• 0694-0137, “License Exceptions and Exclusions;” which carries a burden hour estimate of 5 minutes per electronic submission; and

• 0607-0152 “Automated Export System (AES) Program,” which carries a burden hour estimate of 3 minutes per electronic submission.

The revision of license review policy for advanced computing commodities will affect the collection under control number 0694-0088, for the multipurpose application because of the increase of 100 more license applications per year, because industry is more likely to submit licenses when there is a case-by-case review versus a presumption of denial license review policy. BIS estimates that these changes will result in an increase in burden hours of 28.3 hours. However, the increase in burden falls within the existing burden estimates currently associated with these control numbers. BIS also estimates a minimal increase under OMB control number 0694-0122 to account for the responsibility of the exporter to report the results from third-party testing lab confirmation.

Changes impacting OMB control numbers 0694-0096, 0694-0137, and 0607-0152 are not expected to result in an increase in burden hours.

Additional information regarding these collections of information—including all background materials—can be found at: https://www.reginfo.gov/public/do/PRAMain by using the search function to enter either the title of the collection or the OMB Control Number.

3. This rule does not contain policies with federalism implications as that term is defined in Executive Order 13132.

4. Pursuant to Section 1762 of ECRA (50 U.S.C. 4821), this action is exempt from the Administrative Procedure Act (APA) (5 U.S.C. 553) requirements for notice of proposed rulemaking, opportunity for public participation, and delay in effective date.

5. Because a notice of proposed rulemaking and an opportunity for public comment are not required to be given for this rule under the APA (5 U.S.C. 553) or by any other law, the analytical requirements of the Regulatory Flexibility Act (5 U.S.C. 601 et seq.) are not applicable. Accordingly, no regulatory flexibility analysis is required, and none has been prepared.

List of Subjects

15 CFR Part 742

Exports, Terrorism.

15 CFR Part 744

Exports, Reporting and recordkeeping requirements, Terrorism.

15 CFR Part 748

Administrative practice and procedure, Exports, Reporting and recordkeeping requirements, Terrorism.

For the reasons stated in the preamble, parts 742, 744, and 748 of the Export Administration Regulations (15 CFR parts 730 through 774) is amended as follows:

PART 742—CONTROL POLICY—CCL BASED CONTROLS

1. The authority citation for part 742 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 5, 2025, 90 FR 50737 (November 7, 2025).

2. Section 742.6 is amended by revising paragraph (b)(10)(iii) heading and paragraph (b)(10)(iii)(A)(1) to read as follows:

§ 742.6 Regional stability.

* * * * *

(b) * * *

(10) * * *

(iii) License review policy for items specified in paragraph (a)(6)(iii) of this section.

(A)

(1) Policy for Country Group D:5 and Macau. There is a case-by-case license review policy for license applications for exports of commodities with a TPP (as defined in Technical Note 2 to 3A090.a and 3A090.b) less than 21,000, and a `total DRAM bandwidth' (as defined in the notes to paragraph (dd)(1) in supplement no. 2 to part 748) less than 6,500 GB/s, when destined to end-users located in China or Macau, provided the applicant provides the additional information described in supplement no. 2 to part 748 under paragraph (dd). All other applications for exports, reexports, or transfers (in-country) will be reviewed under a presumption of denial to or within Macau or destinations specified in Country Group D:5 or to an entity headquartered in, or whose ultimate parent company is headquartered in, either Macau or a destination specified in Country Group D:5. If the license application meets the criteria of more than one licensing policy, then this licensing policy and its requirements will be applied.

* * * * *

PART 744—CONTROL POLICY: END-USER AND END-USE BASED

3. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 4, 2025, 90 FR 37999 (August 6, 2025); Notice of September 8, 2025, 90 FR 43903 (September 10, 2025); Notice of November 5, 2025, 90 FR 50737 (November 7, 2025).

4. Section 744.23 is amended by:

a. Revising paragraph (d)(3)(ii);

b. Revising paragraph (d)(3)(iii); and

c. Adding paragraph (d)(3)(iv).

These amendments to read as follows:

§ 744.23 “Supercomputer,” “advanced-node integrated circuits,” and semiconductor manufacturing equipment end use controls.

* * * * *

(d) * * *

(3) * * *

(ii) For items subject to the license requirements of this section where there is a foreign-made item that is not subject to the license requirements of this section and performs the same function as an item subject to the EAR license requirements of this section;

(iii) For items specified in paragraph (a)(3)(i)(A) of this section that meet the criteria for case-by-case license review under § 742.6(b)(10)(iii)(A)(1); or

(iv) For all other applications not specified in paragraph (d)(1) or (2) or (d)(3)(i), (ii), or (iii).

* * * * *

PART 748—APPLICATIONS (CLASSIFICATION, ADVISORY, AND LICENSE) AND DOCUMENTATION

5. The authority citation for part 748 continues to read as follows:

Authority: 50 U.S.C. 4801-4852; 50 U.S.C. 4601 et seq.; 50 U.S.C. 1701 et seq.; E.O. 13026, 61 FR 58767, 3 CFR, 1996 Comp., p. 228.

6. Section 748.8 is amended by adding paragraph (bb) to read as follows:

§ 748.8 Unique application and submission requirements.

* * * * *

(bb) Export license application for AI commodities.

7. Supplement no. 2 to part 748 is amended by adding paragraph (dd) to read as follows:

Supplement No. 2 to Part 748—Unique Application and Submission Requirements

* * * * *

(dd) AI commodities. If you are submitting an application for advanced computing commodities for export to end-users located in China or Macau and want to have the application reviewed under the case-by-case license review policy under (b)(10)(iii)(A)(1), the following certification must be provided as part of the license application. License applications that are not supported by the certification described under this paragraph or a commitment to submit the certificate prior to export, will be reviewed under the presumption of denial license review policy specified under § 742.6(b)(10)(iii)(A)(1) of the EAR.

(1) Certification. To qualify for the case-by-case licensing policy under § 742.6(b)(10)(iii)(A)(1), for commodities with a TPP less than 21,000, and a `total DRAM bandwidth' less than 6,500 GB/s the license applicants must provide the following certifications that this license application meets all of these requirements described under paragraphs (dd)(1)(i) through (ix). BIS will routinely confirm the accuracy of relevant elements of the following certifications, using any methods it deems appropriate.

(i) The applicant provides the U.S. Government, at the time of the license application, the total number of units of any AI commodity described in the license application that were shipped to commercial customers in the United States for end use in the United States. The applicant must also provide the following performance specifications to BIS in the license application: the TPP, the `total DRAM bandwidth', the `interconnect bandwidth', `copackaged DRAM capacity' and the peak power consumption at max TPP. The applicant must also provide an explanation for any changes to the specifications for this model since launched or previously shipped;

(ii) The applicant certifies and provides necessary supporting data, showing that there are sufficient supplies of the product in the United States such that any exports authorized by this license will not be filled if doing so would result in any delay in fulfilling any existing or new orders from customers in the United States for end use in the United States for any of its “advanced-node integrated circuits” products (taking into account normal lead times), and that global foundry capacity that would otherwise be used to produce similar node or more advanced integrated circuits for end users in the United States will not be diverted to produce commodities authorized by this license for exports to China;

(iii) The applicant shall supply evidence to BIS that, for the AI commodities described in the license application, (i.e., as specified by the TPP, the “total DRAM bandwidth”, the “interconnect bandwidth”, “copackaged DRAM capacity” and the peak power consumption at max TPP), the aggregate TPP of “advanced-node integrate circuits” exported to China or Macau will be no more than 50 percent of the aggregate TPP shipped to customers in the United States for end-use in the United States for the same advanced computing commodities from when such circuits started shipping to commercial U.S. customers in the United States for end-use in the United States to the time of the license application;

(iv) The applicant confirms the AI commodities described in the license application are not for a `military end use', `military-intelligence end use', `military end user', or `military-intelligence end user' as those terms are defined in §§ 744.21(f) and (g) and 744.22(f)(1) and (f)(2), respectively, are not for a nuclear, missile, or chemical or biological weapons end use or end user pursuant to §§ 744.2-4, the transaction does not involve a transaction party subject to §§ 744.8 or 744.11, and no parties subject to §§ 744.8, 744.11, or meeting the definition of a `military end user' or `military-intelligence end user' as defined in §§ 744.21(g) and 744.22(f)(2) will be granted remote access to the items;

(v) The applicant obtains a description of Know Your Customer procedures from the ultimate consignee for the AI commodities described in the license application to prevent remote access from end uses or end users described in paragraph (dd)(1)(iv). The applicant must submit this information to BIS.

(vi) Remote end users. The applicant provides BIS with a list of any intended `Infrastructure-as-a-Service (IaaS) remote end users of the AI commodities described in the license application, located in Belarus, China, Cuba, Iran, Macau, North Korea, Russia, and Venezuela, or an entity headquartered in, or whose ultimate parent company is headquartered in the foregoing destinations. The applicant must obtain this information from the ultimate consignee, or any other party to the transaction, with knowledge about the remote end users necessary to prevent unauthorized remote access from end users described in paragraph (dd)(1)(iv);

(vii) Infrastructure-as-a-Service. If the ultimate consignee or end user of the AI commodities described in the license application provides IaaS, the applicant verifies (through the ultimate consignee, if necessary) that the ultimate consignee or any Infrastructure-as-a-Service end user:

(1) is compliant with paragraph (dd)(1)(iv);

(2) will not transfer model weights trained on the AI commodities to any end user not previously disclosed on the license or without authorization from BIS; and

(3) will not directly or indirectly provide a party described in (dd)(1)(iv) with remote access to any algorithm trained on the AI commodities;

(viii) Security demonstration. The applicant must describe the physical security for the ultimate consignee of the AI commodities described in the license application; and

(ix) The applicant confirms that, prior to export on an approved license from the United States, every shipment of advanced computing commodities described in this license application will be reviewed by a qualified third-party testing lab who meets the qualifications described in paragraph (dd)(3) of this supplement. The applicant shall also provide BIS with the name and U.S. address of the third-party testing lab in the certification prior to export from the United States.

Notes to paragraph (dd)(1):

1. `Total DRAM bandwidth' refers to the aggregate memory bandwidth in gigabytes per second between the IC and dynamic random access memory (DRAM) ICs, including copackaged DRAM ICs and non-copackaged DRAM ICs. Copackaged DRAM ICs include, for example, high bandwidth memory (HBM). Non-copackaged DRAM ICs include, for example, graphics double data rate (GDDR) ICs.

1.a. `Total DRAM bandwidth' does not include bandwidth from DRAM ICs accessed remotely over an interconnect medium if that bandwidth is included in the IC's `interconnect bandwidth'.

1.b. All bandwidth between the IC and DRAM ICs, regardless of wherever those circuits are located and however those circuits are accessed, that is not included in the IC's `interconnect bandwidth', must be included in `total DRAM bandwidth'.

2. `Interconnect bandwidth' refers to the aggregate bidirectional transfer rate over all of the IC's inputs and outputs, including but not limited to connections over a system peripheral bus. ‘Interconnect bandwidth' does not include bandwidth to other ICs on the same package.

(2) Submissions. License applicants must submit certifications to BIS via SNAP-R prior to the export of the advanced computing commodities from the United States.

(3) Third-party testing lab qualifications and confirmation.

(i) Third-party testing lab qualifications. A third-party testing lab must meet all of the following criteria:

(A) The third-party testing lab must be headquartered in the United States, not otherwise under the control of a company or other entity headquartered in or whose ultimate parent company is headquartered in Country Group D:5 or Macau, and the testing must be conducted in the customs territory of the United States;

(B) The third-party testing lab must not have any ownership or financial stake in either the ultimate consignee, the exporter, or any other party to the transaction, and not otherwise benefit from the export other than by the fees they are paid for their testing service; and

(C) The third-party testing lab must have the expertise to ensure the representations made on the technical capabilities and functions of the advanced computing commodities described in this license application are accurate, including confirming that the `total processing performance' (as defined in Technical Note 2 to 3A090.a and 3A090.b), the `total DRAM bandwidth', the `interconnect bandwidth', and the `copackaged DRAM capacity' are at or below the specifications described in the license application.

(ii) Third-party testing lab confirmation. Prior to any export from the United States, the exporter must receive from the third-party testing lab a certification confirming that the technical capabilities and functions of the advanced computing commodities described in the exporter's license application are accurate and submit that certification to BIS in accordance with the certification prior to export.

(iii) BIS may revoke the qualification of any third-party testing lab at any time and for any reason. This could be communicated, for example, in a letter to an exporter or a BIS publication such as website guidance. Such revocation suspends the case-by-case license review policy availability of § 742.6(b)(10)(iii)(A)(1) for any exporter working with that third-party testing lab until BIS is notified by the exporter that a new qualified third-party testing lab has been chosen pursuant to the terms of paragraph (dd)(3)(i) of this supplement.

* * * * *

Julia A. Khersonsky,
Deputy Assistant Secretary for Strategic Trade.

[FR Doc. 2026-00789 Filed 1-13-26; 4:15 pm]

BILLING CODE 3510-33-P